DEPARTMENT OF COMMERCE

National Oceanic and Atmospheric Administration

50 CFR Part 660

[Docket No.100218107-0199-01]

RIN 0648-XX18

Fisheries Off West Coast States; Modifications of the West Coast Commercial and Recreational Salmon Fisheries; Inseason Actions #1, #2, #3, and #4

AGENCY: National Marine Fisheries Service (NMFS), National Oceanic and Atmospheric Administration (NOAA), Commerce.

ACTION: Modification of fishing seasons, gear restrictions, and landing and possession limits; request for comments.

SUMMARY: NOAA Fisheries announces four inseason actions in the ocean salmon fisheries. Inseason action #1 modified the commercial fishery in the area from Cape Falcon, Oregon to Humbug Mountain, Oregon, and from Humbug Mountain, Oregon to the Oregon/California Border. Inseason action #2 modified the recreational fishery in the area from Cape Falcon, Oregon to Humbug Mountain, Oregon. Inseason action #3 modified the commercial fishery in the area from U.S./Canada Border to Cape Falcon, Oregon. Inseason action #4 modified the commercial fishery from U.S./Canada Border to U.S./Mexico Border.

DATES: Inseason actions #1 and #2 were effective on March 15, 2010 until they were replaced by the 2010 management measures on May 1, 2010. Inseason action #3 was effective on June 12, 2010 and remains in effect until the closing date announced in the 2010 annual management measures or through additional inseason action. Inseason action #4 was effective on June 16, 2010 and remains in effect until the closing date of the 2010 salmon season announced in the 2010 annual management measures or through additional inseason action. Comments will be accepted through August 16, 2010.

ADDRESSES: You may submit comments, identified by 0648-XX18, by any one of the following methods:

• Electronic Submissions: Submit all electronic public comments via the Federal eRulemaking Portal http://www.regulations.gov

• Fax: 206-526-6736, Attn: Peggy Busby

• Mail: 7600 Sand Point Way NE, Building 1, Seattle, WA, 98115

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Peggy Busby, by phone at 206-526-4323.

SUPPLEMENTARY INFORMATION: In the 2009 annual management measures for ocean salmon fisheries (74 FR 20610, May 5, 2009), NMFS announced the commercial and recreational fisheries in the area from the U.S./Canada Border to the U.S./Mexico Border. These management measures included 2010 salmon seasons opening earlier than May 1, 2010.

On March 10, 2010, the Regional Administrator (RA) consulted with representatives of the Pacific Fishery Management Council (Council), Washington Department of Fish and Wildlife, Oregon Department of Fish and Wildlife, and California Department of Fish and Game. The parties to this consultation considered information related to Chinook salmon abundance forecasts, Chinook salmon catch rates, and possible impacts to Sacramento River fall Chinook salmon from the fisheries scheduled to open March 15, 2010. The fisheries opening March 15, 2010 were to occur in the impact area for Sacramento River fall Chinook salmon. Preliminary projections suggested that there would be limited harvest opportunity for Sacramento River fall Chinook salmon and, by moving the opening dates of these fisheries to after May 1, 2010 NMFS and the Council would have more time to evaluate the impacts of these fisheries on the Sacramento River fall Chinook salmon stock.

As a result, on March 10, 2010, the states recommended, and the RA concurred, that NMFS should adopt inseason actions #1 and #2 that would cancel the previously scheduled March 15, 2010 opening date for the (a) commercial fishery in the area from Cape Falcon, Oregon to Humbug Mountain, Oregon, and from Humbug Mountain, Oregon to the Oregon/California Border and (b) the recreational fishery in the area from Cape Falcon, Oregon, to Humbug Mountain, Oregon. Modification of quota and/or fishing seasons by inseason action is authorized by 50 CFR 660.409(b)(1)(i).

In the 2010 annual management measures for ocean salmon fisheries (75 FR 24482, May 5, 2010), NMFS announced the commercial and recreational fisheries in the area from the U.S./Canada Border to the U.S./Mexico Border, beginning May 1, 2010.

The RA consulted with representatives of the Council, Washington Department of Fish and Wildlife, and Oregon Department of Fish and Wildlife on June 10, 2010. The information considered during this consultation related to Chinook salmon catch to date and Chinook salmon catch rates compared to quotas and other management measures established preseason.

Inseason action #3 closed the commercial salmon fishery from the U.S./Canada Border to Cape Falcon, Oregon. This action was taken consistent with the 2010 management measures requirement that when it was projected that 35,000 Chinook salmon of the 42,000 Chinook salmon quota had been landed, NMFS would consider inseason action , to modify the open period and add landing and possession limits to extend the fishery through the end of June. On June 10, 2010, the states recommended this action and the RA concurred; inseason action #3 took effect on June 12, 2010, and was effective until it was modified by subsequent inseason action that will be described in a separate federal register notice. Modification of quota and/or fishing seasons is authorized by 50 CFR 660.409 (b)(1)(i).

The RA consulted with representatives of the Council, Washington Department of Fish and Wildlife, and Oregon Department of Fish and Wildlife on June 15, 2010. The information considered during this consultation related to catch to date for salmon and incidental halibut harvest, and Chinook salmon catch rates compared to quotas and other management measures established preseason.

Inseason action #4 closed the retention of Pacific halibut caught incidentally while trolling for salmon in halibut management area 2A (the coasts of Washington, Oregon and California). This action was taken due to attainment of the 2010 incidental halibut harvest quota. On June 15, 2010, the states recommended this action and the RA concurred; inseason action #4 took effect on June 16, 2010. Modification of quota and/or fishing seasons is authorized by 50 CFR 660.409(b)(1)(i) .

All other restrictions and regulations remain in effect as announced for the 2010 Ocean Salmon Fisheries and previous inseason actions.

The RA determined that the best available information indicated that the catch and effort data, and projections, supported the above inseason actions recommended by the states. The states manage the fisheries in state waters adjacent to the areas of the U.S. exclusive economic zone in accordance with these Federal actions. As provided by the inseason notice procedures of 50 CFR 660.411, actual notice of the described regulatory actions was given, prior to the date the action was effective, by telephone hotline number 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (74 FR 20610, May 5, 2009; 75 FR 24482, May 5, 2010), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to ensure that fisheries are managed based on the best available scientific information, thus allowing fishers access to the available fish at the time the fish were available while ensuring that quotas are not exceeded. The AA also finds good cause to waive the 30-day delay in effectiveness required under U.S.C. 553(d)(3), as a delay in effectiveness of these actions would allow fishing at levels inconsistent with the goals of the Salmon Fishery Management Plan and the current management measures.

These actions are authorized by 50 CFR 660.409 and 660.411 and are exempt from review under Executive Order 12866.

Authority: 16 U.S.C. 1801 et seq.

Dated: July 27, 2010.
James P. Burgess,
Acting Director, Office of Sustainable Fisheries, National Marine Fisheries Service.

[FR Doc. 2010-18800 Filed 7-29-10; 8:45 am]

BILLING CODE 3510-22-S